ENVIRONMENTAL PROTECTION AGENCY

[OPP-2002-0116; FRL-7184-1]

Systems Integration Group, Inc. and Micrographics Specialties, Inc.; Transfer of Data

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be transferred to Systems Integration Group, Inc. and its subcontractor, Micrographics Specialties, Inc., in accordance with 40 CFR 2.307(h)(3) and 2.308(i)(2). Systems Integration Group, Inc. and its subcontractor, Micrographics Specialties, Inc., have been awarded a contract to perform work for OPP, and access to this information will enable Systems Integration Group, Inc. and its subcontractor, Micrographics Specialties, Inc., to fulfill the obligations of the contract.

DATES: Systems Integration Group, Inc. and its subcontractor, Micrographics Specialties, Inc., will be given access to this information on or before July 1, 2002.

FOR FURTHER INFORMATION CONTACT: By mail: Erik R. Johnson, FIFRA Security Officer, Information Resources and Services Division (7502C), Office of Pesticide Programs, Environmental Protection Agency, 1200 Pennsylvania Ave., NW., Washington, DC 20460; telephone number: (703) 305-7248; e-mail address: johnson.erik@epa.gov.

SUPPLEMENTARY INFORMATION:

I. General Information

A. Does this Action Apply to Me?

This action applies to the public in general. As such, the Agency has not attempted to describe all the specific entities that may be affected by this action. If you have any questions regarding the applicability of this action to a particular entity, consult the person listed under FOR FURTHER INFORMATION CONTACT.

B. How Can I Get Additional Information, Including Copies of this Document and Other Related Documents?

You may obtain electronic copies of this document, and certain other related documents that might be available electronically, from the EPA Internet Home Page at http://www.epa.gov/. To access this document, on the Home Page select “Laws and Regulations” “Regulations and Proposed Rules,” and then look up the entry for this document under the “Federal Register—Environmental Documents.” You can also go directly to the Federal Register listings at http://www.epa.gov/fedrgstr/.

II. Contractor Requirements

Under Contract No. GS-35F-4713G, Order Number: 2W-0808-NBSX, Systems Integration Group, Inc. and its subcontractor, Micrographics Specialties, Inc., will perform the following:

The Pesticide Document Management System (PDMS) and the Pesticide Product Information System (PPIS) both consist of an ADP index and a collection of images either on microfiche or in electronic form. The ADP index for each system is maintained under a separate contract. The purpose of this task order is to: (1) Provide image production support for both PDMS and PPIS. This support involves the creation of images of registrant submitted studies, other selected pesticide documents, as well as pesticide labels, and associated label accepted memoranda; (2) provide image printing, fiche blowback, fiche reproduction, and photocopying services for both PDMS and PPIS, and to provide inventory control over microfiche and image collections; and (3) provide image production for supplementary documents such as toxicology reviews, incident reports, maintenance fee records, and docket documents.

OPP has determined that access by Systems Integration Group, Inc. and its subcontractor, Micrographics Specialties, Inc., to information on all pesticide chemicals is necessary for the performance of this contract.

Some of this information may be entitled to confidential treatment. The information has been submitted to EPA under sections 3, 4, 6, and 7 of FIFRA and under sections 408 and 409 of FFDCA.

In accordance with the requirements of 40 CFR 2.307(h)(2), the contract with Systems Integration Group, Inc. and its subcontractor, Micrographics Specialties, Inc., prohibits use of the information for any purpose not specified in the contract; prohibits disclosure of the information to a third party without prior written approval from the Agency; and requires that each official and employee of the contractor sign an agreement to protect the information from unauthorized release and to handle it in accordance with the FIFRA Information Security Manual. In addition, Systems Integration Group, Inc. and its subcontractor, Micrographics Specialties, Inc., are required to submit for EPA approval a security plan under which any CBI will be secured and protected against unauthorized release or compromise. No information will be provided to Systems Integration Group, Inc. and its subcontractor, Micrographics Specialties, Inc., until the requirements in this document have been fully satisfied. Records of information provided to Systems Integration Group, Inc. and its subcontractor, Micrographics Specialties, Inc., will be maintained by EPA Project Officers for this contract. All information supplied to Systems Integration Group, Inc. and its subcontractor, Micrographics Specialties, Inc., by EPA for use in connection with this contract will be returned to EPA when Systems Integration Group, Inc. and its subcontractor, Micrographics Specialties, Inc., have completed their work.

List of Subjects

Environmental protection, Business and industry, Government contracts, Government property, Security measures.

Dated: June 13, 2002.
Linda Vlier Moos,
Acting Director, Information Resources and Services Division, Office of Pesticide Programs.

[FR Doc. 02-15880 Filed 6-21-02; 8:45 am]

BILLING CODE 6560-50-S